DEPARTMENT OF COMMERCE

International Trade Administration

[A-351-826]

Notice of Extension of Preliminary Results of Antidumping Duty Administrative Review: Small Diameter Circular Seamless Carbon and Alloy Steel Standard, Line and Pressure Pipe From Brazil

AGENCY: Import Administration, International Trade Administration, Department of Commerce.

ACTION: The Department of Commerce (“the Department”) is conducting an administrative review of the antidumping duty order on small diameter circular seamless carbon and alloy steel standard, line and pressure pipe (“seamless pipe”) from Brazil in response to a request by respondent V&M do Brasil, S.A. (“VMB”). The review covers shipments to the United States during the period August 1, 2002, to July 31, 2003. For the reasons discussed below, we are fully extending the preliminary results of this administrative review by 120 days, to no later than August 30, 2004. This extension is made pursuant to Section 751(a)(3)(A) of the Tariff Act of 1930, as amended.

EFFECTIVE DATE: April 23, 2004.

FOR FURTHER INFORMATION CONTACT: Patrick Edwards or Helen Kramer at (202) 482-8029 or (202) 482-0405, respectively; Antidumping and Countervailing Duty Enforcement Group III, Import Administration, International Trade Administration, U.S. Department of Commerce, 14th Street and Constitution Avenue, NW., Washington, DC 20230.

Background

On August 12, 2003, in response to the Department's notice of opportunity to request a review published in the Federal Register, VMB requested that the Department conduct an administrative review of the antidumping duty order on seamless pipe from Brazil. The current antidumping duty order applies a company-specific rate for Mannesmann S.A. as well as the “all-others” rate. See Notice of Antidumping Duty Order and Amended Final Determination: Certain Small Diameter Seamless Carbon and Alloy Steel Standard, Line and Pressure Pipe From Brazil, 60 FR 39707 (August 3, 1995).

The Department initiated the review for VMB on September 30, 2003. See Notice of Initiation of Antidumping and Countervailing Duty Administrative Reviews, Requests for Revocation in Part and Deferral of Administrative Reviews, 68 FR 56262.

On January 13, 2004, the Department received a request from United States Steel Corporation, petitioner in this review, to commence a sales-below-cost investigation in this review. See Letter with Attachments from Skadden, Arps, Slate, Meagher & Flom LLP to the Secretary of Commerce, January 13, 2004, on file in the Central Records Unit (CRU) located in room B-099 of the main Commerce Building. The Department initiated a sales-below-cost investigation in this review on February 3, 2004. See Letter and Decision Memorandum from Abelali Elouaradia and Richard Weible, February 3, 2004, on file in the CRU.

The preliminary results are currently due not later than May 1, 2004.

Extension of Time Limits for Preliminary Results

Pursuant to section 751(a)(3)(A) of the Act and 19 CFR 351.213(h)(2), the Department may extend the deadline for completion of the preliminary results of a review if it determines that it is not practicable to complete the preliminary results within 245 days after the last day of the anniversary month of the date of publication of the order for which the administrative review was requested. There are several complexities in this administrative review that require additional time to resolve, including issues regarding model match characteristics, the necessary revision of cost data, and the need to conduct an analysis of successorship to verify that VMB is the successor in Brazil to Mannesmann S.A. Furthermore, public holidays in Brazil have resulted in a delay in the scheduling of verification. Therefore, it is not practicable for the Department to complete this review within the originally anticipated time limit (i.e., May 1, 2004) mandated by section 751(a)(3)(A) of the Act.

Therefore, in accordance with section 751(a)(3)(A) of the Act and 19 CFR 351.213(h)(2), the Department is extending the time limits for the preliminary results by 120 days, to no later than August 30, 2004. The deadline for the final results of this review will continue to be 120 days after publication of the preliminary results.

Dated: April 19, 2004.
Joseph A. Spetrini,
Deputy Assistant Secretary for Import Administration, Group 3.

[FR Doc. 04-9299 Filed 4-22-04; 8:45 am]

BILLING CODE 3510-DS-P